DEPARTMENT OF THE INTERIOR

Bureau of Land Management

[LLWO310000 L91310000.PP0000]

Extension of Approval of Information Collection, OMB Control Number 1004-0132

AGENCY: Bureau of Land Management, Interior.

ACTION: 60-Day Notice and Request for Comments.

SUMMARY: In compliance with the Paperwork Reduction Act of 1995, the Bureau of Land Management (BLM) is announcing its intention to request approval to continue the collection of information from those who wish to participate in the exploration, development, production, and utilization of geothermal resources on BLM-managed public lands, and geothermal resources on lands managed by other surface management agencies. This information collection activity was previously approved by the Office of Management and Budget (OMB), and was assigned control number 1004-0132.

DATES: Comments on the proposed information collection must be received by April 5, 2010, to be assured of consideration.

ADDRESSES: Comments may be mailed to U.S. Department of the Interior, Bureau of Land Management, Mail Stop 401-LS, 1849 C St., NW., Washington, DC 20240. Comments may also be submitted electronically to Jean_Sonneman@blm.gov. Please attach “Attn: 1004-0019” to either form of comment.

FOR FURTHER INFORMATION CONTACT: To receive a copy of the information collection request, contact Barbara Gamble, Division of Fluid Minerals, at 202-912-7148 (Commercial or FTS). Persons who use a telecommunication device for the deaf (TDD) may call the Federal Information Relay Service (FIRS) at 1-800-877-8339, to leave a message for Ms. Gamble.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8(d) and 1320.12(a)). This notice identifies an information collection that the BLM will be submitting to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, telephone number, e-mail address, or other personal identifying information in your comment, be advised that your entire comment—including your personal identifying information—may be made publicly available at any time. While you can ask in your comment to withhold from public review your personal identifying information, we cannot guarantee that we will be able to do so.

The following information is provided for the information collection:

Title: Geothermal Resource Leasing and Geothermal Resources Unit Agreements (43 CFR parts 3200 and 3280).

Forms:

• Form 3200-9, Notice of Intent to Conduct Geothermal Resource Exploration Operations;

• Form 3260-2, Geothermal Drilling Permit;

• Form 3260-3, Geothermal Sundry Notice;

• Form 3260-4, Geothermal Well Completion Report; and

• Form 3260-5, Monthly Report of Geothermal Operations.

OMB Control Number: 1004-0132.

Abstract: Various statutes (such as 30 U.S.C. 1001-1028) authorize the Secretary of the Interior to issue leases for the development and utilization of geothermal resources. The BLM implements these statutory authorities in accordance with regulations at 43 CFR parts 3200 and 3280. The information collected under these regulations enables the BLM to make decisions regarding geothermal leases and unit agreements. It also enables the BLM to monitor compliance with approvals that have been granted. Responses are required to obtain a benefit.

Frequency of Collection: On occasion.

Estimated Number and Description of Respondents: Approximately 760 lessees and applicants for leases.

Estimated Reporting and Recordkeeping “Hour” Burden: The currently approved annual burden for this collection is 10,137 hours. The following chart details the individual components and respective hour burden estimates of this information collection request:

Type of response | Number of responses | Hours per response | Total hours
43 CFR subpart 3202; Lessee Qualifications | 79 | 1 | 79
43 CFR subpart 3203; Competitive Leasing | 300 | 20 | 6,000
43 CFR subpart 3204; Noncompetitive Leasing | 50 | 40 | 200
43 CFR subpart 3205; Direct Use Leasing | 10 | 10 | 100
43 CFR subpart 3206; Lease Issuance | 300 | 1 | 300
43 CFR subpart 3207; Lease Terms and Extension | 50 | 1 | 50
43 CFR subpart 3210; Additional Lease Information | 50 | 1 | 50
43 CFR subpart 3211; Fees | 300 | 1 | 300
43 CFR subpart 3212; Lease Suspensions and Royalty Rate Reductions | 10 | 40 | 400
43 CFR subpart 3213; Relinquishment, Termination, and Cancellation | 10 | 40 | 400
43 CFR subpart 3214; Bonds | 10 | 4 | 40
43 CFR subpart 3215; Replacement Bonds | 10 | 4 | 40
43 CFR subpart 3216; Transfers | 30 | 6 | 180
43 CFR subpart 3217; Cooperative Agreements | 10 | 40 | 400
43 CFR subpart 3251; Form 3200-9, Exploration Operations | 12 | 8 | 96
43 CFR subpart 3252; Form 3260-3, Conducting Exploration Operations | 100 | 8 | 800
43 CFR subpart 3253; Reports: Exploration Operations | 12 | 8 | 96
43 CFR subpart 3256; Exploration Operations Relief and Appeals | 10 | 8 | 80
43 CFR subpart 3261; Form 3260-2, Drilling Operations Permit | 12 | 8 | 96
43 CFR subpart 3264; Form 3260-4, Reports—Drilling Operations/Recordkeeping | 12 | 10 | 120
43 CFR subpart 3272; Utilization Plans and Facility Construction Permits | 10 | 10 | 100
43 CFR subpart 3273; Site License | 10 | 10 | 100
43 CFR subpart 3274; Commercial Use Permit | 10 | 10 | 100
43 CFR subpart 3276; Reports Utilization Operations | 10 | 10 | 100
43 CFR subpart 3281; Unit Agreements | 10 | 10 | 100
43 CFR subpart 3282; Participating Area | 10 | 10 | 100
43 CFR subpart 3283; Unit Agreement Modifications | 10 | 10 | 100
Totals | 1,447 |  | 10,527 *
* This total differs from the previously approved total because of an arithmetical error in the previous submission to the OMB.

Jean Sonneman,
Bureau of Land Management, Acting Information Collection Clearance Officer.

[FR Doc. 2010-2300 Filed 2-2-10; 8:45 am]

BILLING CODE 4310-84-P